DEPARTMENT OF ENERGY

Federal Energy Regulatory Commission

Combined Notice of Filings #1

Take notice that the Commission received the following electric rate filings:

Docket Numbers: ER12-1933-007.

Applicants: Interstate Power and Light Company.

Description: Amendment to April 26, 2017 Notification of Change of Status of Interstate Power and Light Company.

Filed Date: 5/15/17.

Accession Number: 20170515-5199.

Comments Due: 5 p.m. ET 6/5/17.

Docket Numbers: ER15-2582-002; ER10-1851-007; ER10-1852-015; ER10-1930-007; ER10-1931-008; ER10-1966-008; ER10-1971-034; ER10-1976-008; ER10-1985-008; ER11-4462-025; ER12-2225-007; ER12-2226-007; ER14-2138-004; ER15-2101-004.

Applicants: Carousel Wind Farm, LLC, ESI Vansycle Partners, L.P., Florida Power & Light Company, FPL Energy Stateline II, Inc., FPL Energy Vansycle, L.L.C, Golden West Power Partners, LLC, Limon Wind, LLC, Limon Wind II, LLC, Limon Wind III, LLC, Logan Wind Energy LLC, Northern Colorado Wind Energy, LLC, Peetz Table Wind Energy, LLC, NextEra Energy Power Marketing, LLC, NEPM II, LLC.

Description: Clarification to December 30, 2016 Triennial Market Power Update for the Northwest Region of NextEra Companies.

Filed Date: 5/15/17.

Accession Number: 20170515-5182.

Comments Due: 5 p.m. ET 6/5/17.

Docket Numbers: ER17-603-000.

Applicants: Bear Swamp Power Company LLC.

Description: Amendment to December 21, 2016 Bear Swamp Power Company LLC tariff filing (Change in Status) in response to April 13, 2017 Data Request.

Filed Date: 5/15/17.

Accession Number: 20170515-5217.

Comments Due: 5 p.m. ET 6/5/17.

Docket Numbers: ER17-1609-000.

Applicants: Carroll County Energy LLC.

Description: Baseline eTariff Filing: MBR Application to be effective 7/15/2017.

Filed Date: 5/15/17.

Accession Number: 20170515-5150.

Comments Due: 5 p.m. ET 6/5/17.

Docket Numbers: ER17-1610-000.

Applicants: Southwest Power Pool, Inc.

Description: § 205(d) Rate Filing: Mountrail-Williams Electric Cooperative Formula Rate to be effective 7/1/2017.

Filed Date: 5/15/17.

Accession Number: 20170515-5157.

Comments Due: 5 p.m. ET 6/5/17.

Docket Numbers: ER17-1611-000.

Applicants: Duke Energy Carolinas, LLC.

Description: § 205(d) Rate Filing: DEC-Prosperity RS No. 333 Revised PPA to be effective 7/1/2017.

Filed Date: 5/15/17.

Accession Number: 20170515-5171.

Comments Due: 5 p.m. ET 6/5/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 16, 2017.
Kimberly D. Bose,
Secretary.

[FR Doc. 2017-10377 Filed 5-19-17; 8:45 am]

BILLING CODE 6717-01-P